DEPARTMENT OF TRANSPORTATION

Federal Aviation Administration

Sixth Meeting: RTCA Special Committee (230) Airborne Weather Detection Systems

AGENCY: Federal Aviation Administration (FAA), U.S. Department of Transportation (DOT).

ACTION: Notice of Sixth RTCA Special Committee 230 Meeting.

SUMMARY: The FAA is issuing this notice to advise the public of the Sixth RTCA Special Committee 230 meeting.

DATES: The meeting will be held January 12-14, 2016 from 09:00 a.m.-5:00 p.m.

ADDRESSES: The meeting will be held at RTCA, Inc., 1150 18th Street NW., Suite 910, Washington, DC 20036, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., hmoses@rtca.org, (202) 330-0654.

SUPPLEMENTARY INFORMATION: Pursuant to section 10(a) (2) of the Federal Advisory Committee Act (Pub. L. 92-463, 5 U.S.C., App.), notice is hereby given for a meeting of RTCA Special Committee 230. The agenda will include the following:

Tuesday, January 12, 2016

1. Welcome/Introductions/Administrative Remarks—9:00 a.m.-9:30 a.m. (RTCA)

2. Agenda Overview—9:30 a.m.-9:35 a.m. (Finley/Gidner)

3. Meeting #5 Minutes approval—9:35 a.m.-9:40 a.m.

4. Review of FRAC findings from DO-220—10:40 a.m.-12:00 p.m.

5. Lunch 12:00 p.m.-1:00 p.m.

6. Review of FRAC findings from DO-220—1:00 p.m.-5:00 p.m.

Wednesday, January 13, 2016

1. Review FRAC findings from DO-213—9:00 a.m.-12:00 p.m.

2. Lunch 12:00 p.m.-1:00 p.m.

3. Review of FRAC findings from DO-213—1:00 p.m.-5:00 p.m.

Thursday, January 14, 2016

1. Review FRAC findings from DO-213 draft—9:00 a.m.-12:00 p.m.

2. Lunch 12:00 p.m.-1:00 p.m.

3. Review status of Joint RTCA/EUROCAE HAIC working group—1:00 p.m.-2:00 p.m.

4. Action item review—2:00 p.m.-2:30 p.m.

5. Approve Final Revisions to DO-220 and DO-213 for PMC—2:30 p.m.-3:00 p.m.

6. Adjourn 3:00 p.m.

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on December 9, 2015.
Latasha Robinson,
Management & Program Analyst, Next Generation, Enterprise Support Services Division, Federal Aviation Administration.

[FR Doc. 2015-31409 Filed 12-14-15; 8:45 am]

BILLING CODE 4910-13-P